FEDERAL COMMUNICATIONS COMMISSION

Public Information Collections Approved by Office of Management and Budget

April 26, 2005.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington DC 20554, (202) 418-1359 or via the Internet at plaurenz@fcc.gov.

SUPPLEMENTARY INFORMATION: OMB Control No.: 3060-1081.

OMB Approval Date: 04/15/2005.

Expiration Date: 04/30/2008.

Title: Federal-State Joint Board on Universal Service Petitions for Designations as Eligible Telecommunications Carriers, CC Docket No. 96-45.

Form No.: N/A.

Estimated Annual Burden: 22 responses; 176 total annual burden hours; approximately 8 hours average per respondent.

Needs and Uses: In the Virginia Cellular Order (FCC 03-338), the Commission stated as part future Eligible Telecommunications Carriers (ETC) designation orders, each designated ETC will be required to submit records and documentation on an annual basis. In particular, ETCs will be required to report: (1) Progress towards meeting infrastructure build-out plans; (2) the number of consumer complaints per 1,000 handsets; and (3) information detailing the number of unfulfilled requests for service from potential customers for a twelve month period. This information collection is necessary to ensure that each ETC satisfies its obligation under section 214(e) of the Communications Act of 1934, as amended, to provide services supported by the universal service mechanism throughout the areas for which each ETC is designated.

OMB Control No.: 3060-0814.

OMB Approval date: 03/16/2005.

Expiration Date: 03/31/2008.

Title: Section 54.301, Local Switching Support and Local Switching Support Data Collection Form and Instructions.

Form No.: N/A.

Estimated Annual Burden: 160 responses; 3,324 total annual burden hours; .5-24 hours average response time per respondent.

Needs and Uses: Pursuant to section 54.301, each incumbent local exchange carrier that is not a member of the NECA common line tariff, that has been designated an eligible telecommunications carriers, and that serves a study area with 50,000 or fewer access lines shall, for each study area, provide the Administrator with the projected total unseparated dollar amount assigned to each account in section 54.301(b). Average schedule companies are required to file information pursuant to section 54.301(f). Both respondents must provide true-up data. The data is necessary to calculate certain revenue requirement.

OMB Control No.: 3060-0512.

OMB Approval date: 4/15/2005.

Expiration Date: 4/30/2008.

Title: The ARMIS Annual Summary Report.

Form No.: FCC 43-01.

Estimated Annual Burden: 124 responses; 11,036 total annual burden hours; 89 hours per respondent.

Needs and Uses: The Annual Summary Report contains financial and operating data and is used to monitor the incumbent local exchange carrier industry and to perform routine analyses of costs and revenues on behalf of the Commission.

OMB Control No.: 3060-0511.

OMB Approval date: 4/15/2005.

Expiration Date: 4/30/2008.

Title: ARMIS Access Report.

Form No.: FCC Report 43-04.

Estimated Annual Burden: 82 responses; 12,546 total annual burden hours; 153 hours average per respondent.

Needs and Uses: The Access Report is needed to administer the Commission's accounting, jurisdicational separations and access charge rule; to analyze revenue requirements and rates of return, and to collect financial data from Tier 1 incumbent local exchange carriers.

OMB Control No.: 3060-0470.

OMB Approval date: 3/25/2005.

Expiration Date: 3/31/2008.

Title: Sections 64.901, Allocation of Cost; Section 64.903, Cost Allocation Manuals; and RAO Letters 19 and 26.

Form No.: N/A.

Estimated Annual Burden: 12 responses; 2,400 total annual burden hours; 200 hours average per respondent.

Needs and Uses: Section 64.903(a) requires LECs with annual operating revenues equal to or above the indexed revenue threshold as defined in 47 CFR 32.9000 to file a cost allocation manual containing the information specified in section 64.903(a)(1)-(6). Section 64.903(b) requires that carriers update their cost allocation manuals at least annually, except changes to the cost apportionment table and the description of time reporting procedures must be filed at time of implementation. FCC uses the manual to ensure that all costs are properly classified.

OMB Control No.: 3060-0410.

OMB Approval date: 4/15/2005.

Expiration Date: 4/30/2008.

Title: Forecast of Investment Usage Report and Actual Usage of Investment Report.

Form No.: FCC 499A and FCC 499B.

Estimated Annual Burden: 194 responses; 7,760 total annual burden hours; 40 hours average per respondent.

Needs and Uses: The Forecast of Investment Usage and Actual Usage of Investment Reports are needed to detect and correct forecast errors that could lead to significant misallocation of network plant between regulated and nonregulated activities. FCC's purpose is to protect the regulated ratepayer from subsidizing the nonregulated activities of rate regulated telephone companies. Only large ILECs file these reports.

OMB Control No.: 3060-0395.

OMB Approval date: 4/15/2005.

Expiration Date: 4/30/2008.

Title: The ARMIS USOA Report (ARMIS Report 43-02); The ARMIS Service Quality Report (ARMIS Report 43-05); and the ARMIS Infrastructure Report (ARMIS Report 43-07).

Form No.: FCC 43-02, FCC 43-05 and FCC 43-07.

Estimated Annual Burden: 50 responses; 20,754 total annual burden hours; 415 hours average per respondent.

Needs and Uses: The USOA Report provides the annual results of the carriers' activities for each account of the Uniform System of Accounts. The Service Quality Report provides service quality information in the areas of interexchange access service, installation and repair intervals, local service installation and repair intervals, trunk blockage, and total switch downtime for price cap carriers. The Infrastructure Report provides switch deployment and capabilities data.

OMB Control No.: 3060-0384.

OMB Approval date: 3/7/2005.

Expiration Date: 3/31/2008.

Title: Auditor's Attestation and Certification—47 CFR sections 64.904 and 64.905.

Form No.: N/A.

Estimated Annual Burden: 15 responses; 1,545 total annual burden hours; 103 hours average per respondent.

Needs and Uses: Each incumbent local exchange carrier required to file a cost allocation manual is required to have either an attest engagement or a financial audit performed by an independent auditor biennially. Mid-sized carriers are required to file a certification with the Commission stating that they are in compliance with 47 CFR section 64.901. The requirements are imposed to ensure that the carriers are properly complying with Commission rules. They serve as an important aid in the Commission's monitoring program.

OMB Control No.: 3060-0370.

OMB Approval date: 4/15/2005.

Expiration Date: 4/30/2008.

Title: Part 32—Uniform System of Accounts for Telecommunications Companies.

Form No.: N/A.

Estimated Annual Burden: 239 responses; 1,516,702 total annual burden hours; 104-26,195 hours average per respondent.

Needs and Uses: The Uniform System of Accounts is a historical financial accounting system which reports the results of operational and financial events in a manner which enables both managements and regulators to assess these results within a specified accounting period. Subject respondents are telecommunications companies. Entities having annual revenues from regulatory telecommounications operations of less than $123 million are designated as Class B and are subject to a less detailed accounting system than those designated as Class A companies.

OMB Control No.: 3060-0056.

OMB Approval date: 4/13/2005.

Expiration Date: 4/30/2008.

Title: Part 68—Connection of Terminal Equipment to the Telephone Network.

Form No.: N/A.

Estimated Annual Burden: 70,450 responses; 32,027 total annual burden hours; .05-24 hours average per respondent.

Needs and Uses: The purpose of 47 CFR part 68 is to protect the network from certain types of harm and interference to other subscribers. To ensure that consumers, providers of telecommunications, the Administrative Council, TCBs, and the Commission are able to trace products to the party responsible for placing terminal equipment on the market, it is essential to require manufacturers and suppliers to provide the information required by part 68.

Federal Communications Commission.
Marlene H. Dortch,
Secretary.

[FR Doc. 05-8803 Filed 5-3-05; 8:45 am]

BILLING CODE 6712-01-P